DEPARTMENT OF COMMERCE

National Oceanic and Atmospheric Administration

DEPARTMENT OF THE INTERIOR

U.S. Fish and Wildlife Service

RIN 0648-XE56

Marine Mammals and Endangered Species; National Marine Fisheries Service File No. 10074; U.S. Fish and Wildlife Service File No. PRT-165304

AGENCIES: National Marine Fisheries Service (NMFS), National Oceanic and Atmospheric Administration (NOAA), Commerce; U.S. Fish and Wildlife Service, Interior.

ACTION: Notice; receipt of application.

SUMMARY: Notice is hereby given that Michael Etnier, Ph.D., Box 353100, University of Washington, Seattle, WA 98227, has applied in due form for a permit to import, export, and possess marine mammal specimens for the purposes of scientific research.

DATES: Written, telefaxed, or e-mail comments must be received on or before February 25, 2008.

ADDRESSES: The application and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

U.S. Fish and Wildlife Service, Division of Management Authority, 4401 North Fairfax Drive, Room 212, Arlington, VA 22203 (1-800-358-2104).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10074/PRT-165304

FOR FURTHER INFORMATION CONTACT: Kate Swails or Amy Sloan, Office of Protected Resources, NMFS, (301)713-2289.

SUPPLEMENTARY INFORMATION: The subject permit is requested under the authority of the Marine Mammal Protection Act of 1972, as amended (16 U.S.C. 1361 et seq.), the regulations governing the taking and importing of marine mammals (50 CFR parts 18 and 216), the Endangered Species Act of 1973, as amended (16 U.S.C. 1531 et seq.), and the regulations governing the taking, importing, and exporting of endangered and threatened species (50 CFR parts 17 and 222-226).

Dr. Etnier requests a 5-year permit to possess and import/export marine mammal and endangered and threatened species parts (hard and soft) from the orders of Cetacea, Pinnipedia, and Carnivora (sea otter, Enhydra lutris). Specimens (teeth, bone, and whiskers) would be obtained from museums and private collections or collected from carcasses of beach stranded animals or federally sponsored subsistence harvests. No animals would be taken or killed for the purposes of this research. The objectives are to combine osteometric, chemical, and genetic analyses to test hypotheses regarding the stability of ecological adaptations among marine mammals in the eastern north Pacific Ocean throughout the Late Holocene.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 16, 2008.
P. Michael Payne,
Chief, Permits, Conservation and Education Division, Office of Protected Resources, National Marine Fisheries Service.

Dated: January 16, 2008.
Timothy J. VanNorman,
Chief, Branch of Permits, Division of Management Authority, U.S. Fish and Wildlife Service.

[FR Doc. E8-1318 Filed 1-24-08; 8:45 am]

BILLING CODE 3510-22-S